DEPARTMENT OF LABOR

Employment and Training Administration

Notice of Development of the U.S. Department of Labor, Employment and Training Administration's Five-Year Research and Evaluation Strategic Plan for 2010-2015; Request for Public Comment

AGENCY: Employment and Training Administration, Labor.

ACTION: Notice.

SUMMARY: Notice is hereby given on the development of the U.S. Department of Labor (Department), Employment and Training Administration's (ETA) Five-Year Research and Evaluation Strategic Plan for 2010-2015, hereafter referred to as the “Research Plan.” The Research Plan is required under the Workforce Investment Act (WIA) of 1998 (29 U.S.C. 2916(a)). The Research Plan sets a research agenda by identifying high priority topics for potential pilot, demonstration, multiservice, multistate, research, and evaluation efforts that should be examined over the next five years. The draft Research Plan was based on a consultation process of internal and external stakeholders. This request for public comment is another opportunity for ETA to receive additional stakeholder feedback as part of its process in finalizing the Research Plan and transmitting it to Congress.

To download a copy of the full draft report as a PDF, visit the ETA Research Web site at http://www.doleta.gov/reports/fiveyear_researchplan.cfm.

DATES: Submit comments on or before November 14, 2011.

ADDRESSES: You may submit comments and/or suggestions by any one of the following methods:

• Regulations.gov Federal Portal http://www.regulations.gov, identified by Docket ID Number ETA-2011-0003. Follow the Web site instructions for submitting comments.

• Mail or Hand Delivery/Courier: Please submit all written comments (including disk and CD-ROM submissions) to DOL/ETA, Office of Policy Development and Research, Attn: ETA Research Plan, 200 Constitution Avenue NW., Room N-5641, Washington, DC 20210. Be advised that mail delivery in the Washington, DC area may be delayed due to security concerns. Hand-delivered comments will be received at the above address. All overnight mail will be considered to be hand-delivered and must be received at the designated place by the date specified above.

• Facsimile: Please fax comments to (202) 693-2766 attention to “ETA Research Plan.”

• Email: Please send comments to eta.research@dol.gov with subject line “ETA Research Plan.”

Please submit your comments by only one method. The Department will not review comments received by means other than those listed above or that are received after the comment period has closed. The Department will post all comments received on http://www.regulations.gov without making any change to the comments, including any personal information provided. The http://www.regulations.gov Web site is a Federal portal, and all comments posted there are available and accessible to the public. The Department cautions commenters not to include their personal information such as Social Security Numbers, personal addresses, telephone numbers, and email addresses in their comments as such submitted information will become viewable by the public on the http://www.regulations.gov Web site. It is the commenter's responsibility to safeguard his or her information. Comments submitted through http://www.regulations.gov will not include the commenter's email address unless the commenter chooses to include that information as part of his or her comment. Postal delivery in Washington, DC may be delayed due to security concerns. Therefore, the Department encourages the public to submit comments through the http://www.regulations.gov Web site. For access to the docket to read background documents or comments received, go to the Regulations.gov Federal portal at http://www.regulations.gov and enter Docket ID: ETA-2011-0003 in the search field. The Department will also make all the comments it receives available for public inspection during normal business hours at the ETA Office of Policy Development and Research at the above address.

If you need assistance to review the comments, the Department will provide you with appropriate aids such as readers or print magnifiers. The Department will make copies of the notice available, upon request, in large print and as an electronic file on computer disk. The Department will consider providing the notice in other formats upon request. To schedule an appointment to review the comments and/or obtain the draft research plan in an alternate format, contact the Office of Policy Development and Research at (202) 693-3700 (VOICE) (this is not a toll-free number) or 1-877-889-5627 (TTY/TDD).

FOR FURTHER INFORMATION CONTACT: Janet Javar, Employment and Training Administration, Office of Policy Development and Research, Room N-5641, 200 Constitution Avenue NW., Washington, DC 20210. Telephone: (202) 693-3677 (this is not a toll-free number); fax: (202) 693-2766; email: javar.janet@dol.gov.

SUPPLEMENTARY INFORMATION: Under Section 171 of WIA, the Secretary of Labor is required to submit, every two years, a plan that describes priorities for pilot, demonstration, multiservice, multistate, and research projects. The Research Plan provides ETA with an extensive literature review of prior research, a summary of current research, and an identification of research topics related to workforce development programs and policies that should be taken into consideration over the next five years, from 2010-2015. In addition to ETA-funded studies, this Research Plan includes a number of studies and research efforts funded by other public and private organizations, such as state and local agencies, other Federal agencies, foundations and other non-profits, universities, and other stakeholders, to gain a better understanding of the gaps in employment and training research in order to identify high priority topics for research.

The Research Plan is composed of five chapters:

• Chapter I introduces the role of the plan in informing the decision-making process for carrying out research and evaluation.

• Chapter II identifies significant recently completed research and evaluation projects conducted in the years from 2005-2010.

• Chapter III identifies current and ongoing research and evaluation efforts.

• Chapter IV recommends five high priority topic areas for research.

• Chapter V summarizes the role of the plan.

In the development of the Research Plan, WIA calls for the consultation of interested parties to address national employment and training problems. With support from ETA, an extensive effort was made by the John J. Heldrich Center of Rutgers University to engage both internal and external stakeholders in the process of identifying research gaps and high priority topics for the public workforce system. The Heldrich Center produced a paper summarizing the findings from these efforts entitled Identifying Gaps and Setting Priorities for Employment and Training Research. This paper was a critical source for the Research Plan, and information from the paper was adopted as core parts of Chapters II, III, IV, and the appendices in the Research Plan. ETA is also accepting comments about the Research Plan in response to this notice. ETA will use this additional feedback to finalize the Research Plan before ultimately transmitting the plan to Congress.

Signed at Washington, DC, this 17th day of October, 2011.
Jane Oates,
Assistant Secretary for Employment and Training.

[FR Doc. 2011-27905 Filed 10-27-11; 8:45 am]

BILLING CODE 4510-FM-P